DEPARTMENT OF HEALTH AND HUMAN SERVICES

Office of Inspector General

Program Exclusions: April 2001

AGENCY: Office of Inspector General, HHS.

ACTION: Notice of program exclusions.

During the month of April 2001, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject city, state | Effective date
Program-Related Convictions
Araboghli, Raphaela | 05/20/2001
Ansonia, CT
Arzadon, Rodrigo P | 05/20/2001
Flint, MI
Atikian, Vartan | 05/20/2001
Taft, CA
Billingslea, Charles A | 05/20/2001
College Park, GA
Boyce, Lila | 05/20/2001
Clinton, SC
Brown, Tanya Nichelle | 05/20/2001
Fayetteville, NC
Bun, Sothary Ryan | 05/20/2001
Long Beach, CA
Caplan, Steven Lee | 05/20/2001
Superior, CO
Capp, Sheldon N | 05/20/2001
Greenwich, CT
Chan, Tha | 05/20/2001
Long Beach, CA
Culver, Michael D | 05/20/2001
Oxford, GA
Doak, Bruce M | 05/20/2001
Beaver, WV
Dominguez, Ramon Mario | 05/20/2001
Diamond Bar, CA
Duramed, Inc | 05/20/2001
Tampa, FL
Foster, Bessie Sterling | 05/20/2001
Baton Rouge, LA
Gabriyelyan, Filip | 05/20/2001
Taft, CA
Geesaman, Barbara A | 05/20/2001
Lake Wales, FL
Goldstar Medical Services, Inc | 05/20/2001
Tampa, FL
Hamparian, Stephen R | 05/20/2001
Winchester, MA
Hart, Delores Williams | 05/20/2001
Baton Rouge, LA
Hidalgo, Eduardo | 05/20/2001
Miami, FL
Hopkins, Daniel Alan | 05/20/2001
Royal Oak, MI
Irvin, Etta M | 05/20/2001
Marianna, FL
Jacobs, Bryant Eugene | 05/20/2001
Stone Mountain, GA
Jones, Nettie Ruth | 05/20/2001
Seattle, WA
Keshishian, Akop | 05/20/2001
Pasadena, CA
Leung, Frances MA | 05/20/2001
Albion, NY
Lightfoot, Carolyn | 05/20/2001
Edenton, NC
Lopez, Jesus Felipe | 05/20/2001
Zephyrhills, FL
McEntee, Matthew | 05/20/2001
Queens, NY
McLilly, Hazel | 05/20/2001
Clinton, SC
Megrikyan, Sergei | 05/20/2001
Pasadena, CA
Mkrtchyan, Vardges | 05/20/2001
W Hollywood, CA
Muy, Nong | 05/20/2001
Long Beach, CA
Norris-Garwood, Peggy Sue | 05/20/2001
Southfield, MI
Ponce, Juan | 05/20/2001
Miami, FL
Russo, Ann | 05/20/2001
Yonkers, NY
Shah, Darshan | 05/20/2001
Muttontown, NY
Smart, James Robert | 05/20/2001
Forth Worth, TX
Townsend, Deneil Rae | 05/20/2001
Sparks, NV
United Dental Services, P C | 05/20/2001
Binghamton, NY
Vanmeter, Brent Eugene | 05/20/2001
El Reno, OK
Warren, Christine | 05/20/2001
Virginia Beach, VA
Williams, Joseph | 05/20/2001
Stone Mountain, GA
Williams, Elnor | 05/20/2001
Marianna, FL
Wynder, Rosa Anna | 05/20/2001
Virginia Beach, VA
Felony Conviction for Health Care Fraud
Berbaum, Gerald Lee | 05/20/2001
Pinckney, MI
Lalonde, Wayne Lee | 05/20/2001
Edgewater, CO
Nortavage, Donna M | 05/20/2001
Pingtown, PA
Yannello, Jeffrey | 05/20/2001
Minersville, PA
Felony Control Substance Conviction
Cornelius, Denice Marie | 05/20/2001
Okemos, MI
Gharrirassi, Amir | 05/20/2001
Mission Viejo, CA
Hannon, Kathleen | 05/20/2001
Wilkes-Barre, PA
Marcus, Vincent David | 05/20/2001
Mechanicsburg, PA
Payne, Arnold Jr | 05/20/2001
Baltimore, MD
Patient Abuse/Neglect Convictions
Bartolo, Edmundo Vellagare | 05/20/2001
Florence, AZ
Baxter, Heidimarie | 05/20/2001
Elyria, OH
Bland, Benjamin | 05/20/2001
Water Valley, MS
Blue, Mishelle Deann | 05/20/2001
Magalia, CA
Carey, Karen | 05/20/2001
Clearlake, CA
Chandra, Nivrita | 05/20/2001
Hayward, CA
Chorjel, David Leon | 05/20/2001
Boulder Creek, CA
Eggins, Shonta Nayaya | 05/20/2001
Alexandria, LA
Floyd, Tanya Girette | 05/20/2001
Clinton, SC
Fullard, Hope Shawn | 05/20/2001
Gresham, SC
Gillis, Tiara | 05/20/2001
Townsend, DE
Harris, David Wayne | 05/20/2001
Des Moines, IA
Kelson, Lubelia Hoyel | 05/20/2001
Gramercy, LA
Patterson, Regina | 05/20/2001
Compton, CA
Porter, Loyce Dale | 05/20/2001
Enid, OK
Rice, John | 05/20/2001
Lake Providence, LA
Simmons, Christian | 05/20/2001
Laurel, MS
Thomas, Alberta M | 05/20/2001
Vossburg, MS
Vigil, Janis Lee | 05/20/2001
Portland, OR
Waller, Crystal | 05/20/2001
Wilmington, DE
Wilkins, Carolyn | 05/20/2001
Wilmington, DE
Conviction for Health Care Fraud
Spencer, Sherry Alfreda | 05/20/2001
Mansfield, LA
Conviction—Obstruction of an Investigation
Grana, Roberto | 05/20/2001
Corozal, PR
License Revocation/Suspension/Surrendered
Abramyan, Karine | 05/20/2001
Santa Monica, CA
Adams, Patricia Joann | 05/20/2001
Richmond, IN
Akindolie, Funmilayo D | 05/20/2001
Central Falls, RI
Allard, Sherri E | 05/20/2001
Providence, RI
Andrews, Heldina | 05/20/2001
Anchorage, AK
Arias, Tammie L | 05/20/2001
Providence, RI
Armas, Patricia Maxine | 05/20/2001
Cypress, CA
Baker, Euruegenall J | 05/20/2001
St Petersburg, FL
Baltazar, Willermo | 05/20/2001
Las Vegas, NV
Barber, Debra Jane | 05/20/2001
Irving, TX
Baskin, Howard H | 05/20/2001
Fort Collins, CO
Becker, Randy J | 05/20/2001
N Miami Bch, FL
Beech, Alma Denise | 05/20/2001
Gillett, AR
Bergeron, Michelle Speers | 05/20/2001
Lake Jackson, TX
Bierenbaum, Robert | 05/20/2001
Elmira, NY
Boyle, Donna M Chattley | 05/20/2001
Maple Shade, NJ
Branum, Karen Hoffman | 05/20/2001
Fort Worth, TX
Brigham, Susan Rauh | 05/20/2001
Shamong, NJ
Buckley, Marianne | 05/20/2001
Trenton, NJ
Burkard, Judith | 05/20/2001
Asbury Park, NJ
Burton, Maki | 05/20/2001
Tyler, TX
Burton, Amy Lynn | 05/20/2001
Jacksonville, FL
Canizio, Diane N | 05/20/2001
Clark, NJ
Cardenas, Presentacion E | 05/20/2001
Long Branch, NJ
Carmona, Agustin | 05/20/2001
Florida City, FL
Chesney, Leslie Susan | 05/20/2001
Albuquerque, NM
Click, Linda J | 05/20/2001
Framingham, MA
Coates, Christine Ann | 05/20/2001
Clearwater, FL
Coelho, Diane M | 05/20/2001
Barrington, RI
Copperman, Stuart M | 05/20/2001
Merrick, NY
Crookshank, Richard | 05/20/2001
Las Vegas, NV
Currey, Lisa Renee | 05/20/2001
Floral, AR
Davis, Eric H | 05/20/2001
Weirton, WV
Dean, Kari-Ann | 05/20/2001
Middletown, RI
Dowd, Janice Kemberling | 05/20/2001
Sunbury, PA
Droby, Paul Eric | 05/20/2001
Palestine, TX
Dubose, Charles | 05/20/2001
Meridian, MS
Edwards, Mary Annette | 05/20/2001
Quitman, TX
Evans, Julie Kay | 05/20/2001
Broken Arrow, OK
Fant, Sammie | 05/20/2001
East Ely, NV
Finucan, Thomas E Jr | 05/20/2001
North East, MD
Fleury, Diane | 05/20/2001
Franklinville, NJ
Floro, Teresita C | 05/20/2001
St Peter, MN
Fredrick, Nomi Judith | 05/20/2001
Los Angeles, CA
Gagnon, Tami A | 05/20/2001
Cumberland, RI
Gardner, Laurel J | 05/20/2001
Laurel, MS
Gillane, Donna M | 05/20/2001
Blackwood, NJ
Glavin, Keith M | 05/20/2001
Falmouth, ME
Glynn, Gayle | 05/20/2001
Las Vegas, NV
Goldberg, Barry Scott | 05/20/2001
Dix Hills, NY
Golembeski, Frank J | 05/20/2001
Homestead, FL
Grantham, Robert Edwin | 05/20/2001
Bakersfield, CA
Gremillion, Patricia Ann | 05/20/2001
Plano, TX
Griffin, Lea Ann | 05/20/2001
Longview, TX
Griffin, Gerald T | 05/20/2001
Cranston, RI
Griffin, James J | 05/20/2001
Los Gatos, CA
Haag, Polly Glee | 05/20/2001
Anchorage, AK
Handlow, Carla Rizzo | 05/20/2001
Jacksonville, FL
Hannigan, Judith | 05/20/2001
Las Vegas, NV
Harper, Charlene Denise | 05/20/2001
Manila, AR
Hasty, Angela Aleen | 05/20/2001
Kerrville, TX
Hendrickson, Linda Sue | 05/20/2001
Mead, OK
Henry, Scott Ernest | 05/20/2001
Dunellon, FL
Hetherington, Mark Arnold | 05/20/2001
Lake Ozark, MO
Hicks, Linda R | 05/20/2001
Brandon, MS
Hirsch, Gerald Paul | 05/20/2001
Minersville, PA
Holbrook, Linda A | 05/20/2001
Turner, ME
Hughes, Mardi M | 05/20/2001
W Palm Beach, FL
Hunt, Lajon | 05/20/2001
Foxworth, MS
Hutton, Charles J | 05/20/2001
Philadelphia, PA
Jenkins, Charles G | 05/20/2001
Phoenix, AZ
Johansen, Kelli J | 05/20/2001
Tallahassee, FL
Johnson, Pamela Jean | 05/20/2001
E St Louis, IL
Katz, Ryan | 05/20/2001
Broomfield, CO
Kim, Chongsu | 05/20/2001
Diamond Bar, CA
Kirk, Stacy | 05/20/2001
Reno, NV
Korpi, Jacqueline R | 05/20/2001
Parma, OH
Kupidlowski, Mary Ann | 05/20/2001
Orange City, FL
Lasater, Thomas Peter | 05/20/2001
Modesto, CA
Latiolais, Tricia | 05/20/2001
St Martinville, LA
Lavigne, Daryl G | 05/20/2001
Westbrook, ME
Lewis, Carolyn Dawn | 05/20/2001
Hayward, WI
Librizzi, Michelle H | 05/20/2001
Ringoes, NJ
Logan, Mary | 05/20/2001
Bradenton, FL
Loturco, Sue E | 05/20/2001
Charlotte, TN
Mahurin, Jennifer Kay | 05/20/2001
Lubbock, TX
Mankin, Celeste Machristie | 05/20/2001
Philadelphia, PA
Mathews, Rhonda Lynn | 05/20/2001
Richfield, MN
McMorrow, Kevin | 05/20/2001
N Belgrade, ME
Medley, Ronald Steven | 05/20/2001
Anchorage, AK
Melnichak, Barbara Anne | 05/20/2001
White Oak, PA
Merrifield, Carol Lynne | 05/20/2001
Rockland, MA
Mesick, Frank P | 05/20/2001
Colchester, VT
Miller, Kimberly S | 05/20/2001
Naugatuck, CT
Miller, Rebecca S | 05/20/2001
Cromwell, IA
Miller, Michael David | 05/20/2001
Pocahontas, AR
Miller, Minta Ann | 05/20/2001
Arlington, VA
Miller, Donald David | 05/20/2001
Ogden, UT
Mills, Sharon Inez | 05/20/2001
Tyler, TX
Mora, Rickey Estrada | 05/20/2001
San Luis Obispo, CA
Murray, Nichole M | 05/20/2001
Chester, VT
Mynster, Kim | 05/20/2001
Las Vegas, NV
Nacino, Ma Epifania C | 05/20/2001
Union City, CA
Nedwich, Patricia J | 05/20/2001
Durham, NC
Northrop, Karen A | 05/20/2001
Cranston, RI
Nyman, Jennifer | 05/20/2001
Salt Lake City, UT
Oates, Laurene Jo | 05/20/2001
Sturgeon Bay, WI
Ortiz, Rosa | 05/20/2001
Moorhead, MN
Pagotaisidro, Jeremias | 05/20/2001
Ridgewood, NJ
Palma, Dia | 05/20/2001
Bloomfield, NJ
Parashos, Linda | 05/20/2001
Lindenwold, NJ
Pashko, Robert A | 05/20/2001
Anaheim, CA
Patterson, Sharon Kay | 05/20/2001
Minneapolis, MN
Perez, Amy | 05/20/2001
Manchester, CT
Petrone, Jennifer Ann | 05/20/2001
Plainfield, IL
Pierce, Ronald D | 05/20/2001
Tiptonville, TN
Preston, Jody Lynne | 05/20/2001
Chicago, IL
Prodanovitch, Gus James | 05/20/2001
Albany, NY
Raines, Bannister Lee | 05/20/2001
Baltimore, MD
Reese, Gerrilyn M | 05/20/2001
Horseheads, NY
Reid, Jeri Lynn | 05/20/2001
Vallejo, CA
Reitzell, Sherry | 05/20/2001
Grayson, LA
Remy, Gennieveve Karl | 05/20/2001
Woodbridge, VA
Richards, Sondra S Tabor | 05/20/2001
Welches, CA
Robbins, David W | 05/20/2001
Miami, FL
Rogers, Julie Ann | 05/20/2001
Peoria Hgts, IL
Roldan, Thomas | 05/20/2001
Phillipsburg, NJ
Rollins, Christina C | 05/20/2001
Mesquite, TX
Ruggiero-Ruiz, Carole J | 05/20/2001
North Haven, CT
Rynearson, Andrew | 05/20/2001
Anchorage, AK
Santa Maria, Donna Lee | 05/20/2001
Edison, NJ
Shaw, Marvie | 05/20/2001
Houston, TX
Shephard, Elizabeth A | 05/20/2001
Columbus, OH
Shorey, Melony M | 05/20/2001
Waterville, ME
Similien, Jean Orma | 05/20/2001
Providence, RI
Simone, Susan E | 05/20/2001
Burlington, VT
Snyder, Edward Blaine | 05/20/2001
Esko, MN
Soto, Debra Jo | 05/20/2001
Red Oak, TX
Stephens, Carolyn Jeanette | 05/20/2001
Petal, MS
Stokes, Barbara L | 05/20/2001
Denver, CO
Tarbuck, Mary Lynn Graff | 05/20/2001
Washington, PA
Tarpley, Deborah Jo | 05/20/2001
Houston, TX
Taylor, Gail J | 05/20/2001
Pawtucket, RI
Traylor, Stephania Ann | 05/20/2001
Highlands, TX
Tucker, Karen | 05/20/2001
Bueche, LA
Tucker, Suzanne | 05/20/2001
Colonia, NJ
Turner, Susan Hope | 05/20/2001
Mounds, IL
Van Cleave, Jeanette Giannina | 05/20/2001
Mission Viejo, CA
Venie, Patricia | 05/20/2001
Delmar, NY
Villanueva, Josefa | 05/20/2001
Galveston, TX
Vincent, Mitzi | 05/20/2001
Collins, MS
Wade, Stacie L | 05/20/2001
Streator, IL
Wakenhut, Anne Wunch | 05/20/2001
Lakeview, MI
Walling, Georgia | 05/20/2001
Frazier Park, CA
Walls, Allan Christopher | 05/20/2001
Huntsville, AL
Wellman, Bonnie Waddell | 05/20/2001
Newtown, PA
Werren, Paul | 05/20/2001
Van Nuys, CA
Whatley, Edna D | 05/20/2001
Pascagoula, MS
Whitehead, Addie L | 05/20/2001
Murrells Inlet, SC
Williams, Pamela Lee | 05/20/2001
Hartford, CT
Wiltse, Thomas J | 05/20/2001
W Sacramento, CA
Wright, Diane D | 05/20/2001
Ponde Vedra Bch, FL
Wyatt, Amy Jo | 05/20/2001
Seminary, MS
York, Georgia K | 05/20/2001
Greenville, TX
Zajac, Patricia | 05/20/2001
New Castle, PA
Federal/State Exclusion/Suspension
An, James | 05/20/2001
Los Angeles, CA
Behrends, Gayle Ann | 05/20/2001
Laguna Nigel, CA
Dwan, Francis Alan | 05/20/2001
Chicago, IL
Greenberg, Edmund | 05/20/2001
S Orange, NJ
Iravedra, Luis | 05/20/2001
Kankakee, IL
Thompson, Bob G | 05/20/2001
W Frankfort, IL
Fraud/Kickbacks
Asti, Maria | 01/30/2001
Lafayette, CO
Garcia, Jesus | 11/15/1999
Miami, FL
Goldstar Healthcare, Inc | 05/10/2000
Tampa, FL
Heape, Alice Georgine | 03/02/2001
Gilbert, AZ
Homed Scan (Homed Scan/Metrol) | 03/09/2001
Abington, PA
Homed Scan (Pulmonary Systems) | 03/09/2001
Abington, PA
Kin, Gerald A | 03/09/2001
Abington, PA
LTC Pharmacy, INC | 09/28/2000
Minonk, IL
Owned/Controlled by Convicted Excluded
Adapted Wheelchair Restoration | 05/20/2001
Flushing, NY
Central Kings Medical | 05/20/2001
Brooklyn, NY
Doylestown Foot Care, Inc | 05/20/2001
Doylestown, PA
Evans Chiropractic, Ctr, Inc | 05/20/2001
Chagrin Falls, OH
Psychiatric Liaison Consultati | 05/20/2001
Arlington, TX
Sherman Way Medical Supply | 05/20/2001
Van Nuys, CA
Failure To Provide Payment Information
Brown, Earl | 05/20/2001
Paincourtville, LA
Community Home Health Care Inc | 05/20/2001
Paincourtville, LA
Default on Heal Loan
Beirne, Mary Frances | 05/20/2001
Island Hgts, NJ
Brown, Marilyn F | 05/20/2001
Los Angeles, CA
Brown, David P Sr | 05/20/2001
Moore, OK
Caruso, Edmund M | 03/22/2001
Jersey City, NJ
Casselberry, Brenda L | 05/20/2001
Auburn, AL
Christian, Cori A | 05/20/2001
Heber City, UT
Clouse, Russell L | 05/20/2001
Mesa, AZ
Daguplo, Diosdado L | 05/20/2001
La Puente, CA
Dennis, Charles W | 05/20/2001
Peckville, PA
Digregorio, Philip James | 05/20/2001
Danielson, CT
Edwards, Tom A | 05/20/2001
Ft Pierce, FL
Fine, Halbert C | 05/20/2001
Cincinnati, OH
Fiore, James P | 05/20/2001
Santa Ana, CA
Flowers, John Lee | 05/20/2001
Severn, MD
Foster, Nathaniel W | 05/20/2001
Folsom, CA
Green, Kevin L | 05/20/2001
Philadelphia, PA
Hedgecorth, Julia Anne | 04/02/2001
Albion, MI
Henley, Robert Earl | 05/20/2001
Bountiful, UT
Katz, Steven | 05/20/2001
Van Nuys, CA
Kohanchi, Behzad | 05/20/2001
Woodland Hills, CA
Lamothe, David A | 05/20/2001
Marietta, GA
Mazhar, Mark | 05/20/2001
Los Angeles, CA
McSweeney, Kevin B | 05/20/2001
Ft Lauderdale, FL
Meehan, Maureen T | 05/20/2001
Statington, PA
Metcalf, John W | 05/20/2001
Joplin, MO
Montag, Thomas F | 05/20/2001
Brookville, PA
Mosley-House, Joan A | 05/20/2001
Landsdale, PA
Ortiz, Robert | 05/20/2001
Jackson Hgts, NY
Otis, Raymond J | 05/20/2001
Camilla, GA
Perrotti, Anthony E | 05/20/2001
Pembroke Pines, FL
Perry, Rickey G | 05/20/2001
Little Rock, AR
Pigott, Abu G | 05/20/2001
Oakland, CA
Poole, Gregory T | 05/20/2001
Fresno, CA
Praet, James Firmin | 05/20/2001
Flagstaff, AZ
Shelton, Annette Marie | 05/20/2001
Arlington, TX
Stengel, Ronald Mitchell | 05/20/2001
Boca Raton, FL
Stewart, Jeffrey D | 05/20/2001
Tulsa, OK
Stickle, John Daniel | 05/20/2001
Aptos, CA
Taddei, Kimberlee Jo | 05/20/2001
Milwaukee, WI
Thomas, William Gregory | 05/20/2001
Gainesville, GA
Waite, Thomas D | 05/20/2001
Naugatuck, CT
Zierden-Landmesser, Teresa E | 05/20/2001
Dingsman Ferry, PA
Owners of Excluded Entities
Grasso, John R | 05/20/2001
Binghamton, NY

Dated: May 4, 2001.
Calvin Anderson, Jr.,
Director, Health Care Administrative Sanctions, Office of Inspector General.

[FR Doc. 01-12394 Filed 5-16-01; 8:45 am]

BILLING CODE 4150-04-P